ENVIRONMENTAL PROTECTION AGENCY

40 CFR Part 49

[EPA-HQ-OAR-2011-0151; FRL-9907-17-OAR]

RIN 2060-AQ95

General Permits and Permits by Rule for the Federal Minor New Source Review Program in Indian Country

AGENCY: Environmental Protection Agency (EPA).

ACTION: Proposed rule; notice of public hearing.

SUMMARY: The EPA published in the Federal Register on January 14, 2014 (79 FR 2546), the proposed rule, “General Permits and Permits by Rule for the Federal Minor New Source Review Program in Indian Country.” The EPA is announcing a public hearing date for the proposed rule.

DATES: The public hearing will be held on March 12, 2014.

ADDRESSES: The public hearing will be held on March 12, 2014 at the Colorado Department of Public Health and Environment, 4300 Cherry Creek Drive South, Denver, CO 80246 (Sabin-Cleere Conference Rooms). The hearing will convene at 8:30 a.m. (Mountain Standard Time) and end at 5:00 p.m. (Mountain Standard Time) or after the last pre-registered speaker has spoken, whichever is earlier. A lunch break is scheduled from 12:00 p.m. until 1:00 p.m. The EPA's Web site for the rulemaking, which includes the proposal and information about the hearing, can be found at: http://www.epa.gov/air/tribal/tribalnsr.html.

FOR FURTHER INFORMATION CONTACT: If you would like to present oral testimony at the public hearing, please register by contacting Mr. Matthew Langenfeld, Environmental Protection Agency Region 8, Air Program, Air Permitting, Monitoring and Modeling Unit, Mail Code 8P-AR, 1595 Wynkoop Street, Denver, Colorado 80202, telephone number (303) 312-6284, facsimile number (303) 312-6064, email address: langenfeld.matthew@epa.gov. Please register to present oral testimony by March 10, 2014. If using email, please provide the following information: name, affiliation, address, email address and telephone and fax numbers. All speakers are encouraged to pre-register by March 10, 2014 in order to speak at the public hearing. Registration is not required to attend and listen to the testimony at the public hearing.

Questions concerning the proposed rule that was published in the Federal Register on January 14, 2014 should be addressed to Mr. Christopher Stoneman, Outreach and Information Division, Office of Air Quality Planning and Standards, (C-304-03), Environmental Protection Agency, Research Triangle Park, North Carolina, 27711, telephone number (919) 541-0823, facsimile number (919) 541-0072, email address: stoneman.chris@epa.gov.

SUPPLEMENTARY INFORMATION:

Public Hearing

The proposal for which the EPA is holding the public hearing was published in the Federal Register on January 14, 2014, and is available at: http://www.epa.gov/air/tribal/tribalnsr.html and also in the docket identified below. The public hearing will provide interested parties the opportunity to present oral comments regarding the EPA's proposed rule. The EPA may ask clarifying questions during the oral presentations, but will not respond to the presentations at that time. Written statements and supporting information submitted during the comment period will be considered with the same weight as any oral comments and supporting information presented at the public hearing.

Commenters should notify Mr. Langenfeld if they will need specific equipment or if there are other special needs related to providing comments at the public hearing. The EPA will provide equipment for commenters to make computerized slide presentations if we receive special requests in advance. Oral testimony will be limited to 5 minutes for each commenter. The EPA encourages commenters to submit to the docket a copy of their oral testimony electronically (via email or CD) or in hard copy form.

The public hearing schedule, including lists of speakers, will be posted on the EPA's Web site at: http://www.epa.gov/air/tribal/tribalnsr.html. Verbatim transcripts of the hearing and written statements will be included in the docket for the rulemaking. The EPA will make every effort to follow the schedule as closely as possible on the day of the hearing.

How can I get copies of this document and other related information?

The EPA has a docket for the proposed rule, “General Permits for the Minor NSR Program,” under No. EPA-HQ-OAR-2011-0151, available at www.regulations.gov.

List of Subjects in 40 CFR Part 49

Environmental protection, Administrative practices and procedures, Air pollution control, Indians, Indians-law, Indians-tribal government, Intergovernmental relations, Reporting and recordkeeping requirements.

Dated: February 19, 2014.
Mary E. Henigin,
Acting Director, Office of Air Quality Planning and Standards.

[FR Doc. 2014-04089 Filed 2-24-14; 8:45 am]

BILLING CODE 6560-50-P